DEPARTMENT OF JUSTICE

Notice of Lodging of Proposed Consent Decree Under the Comprehensive Environmental Response, Compensation, and Liability Act

On January 13, 2020, the Department of Justice lodged a proposed Consent Decree with the United States District Court for the Southern District of Ohio in the lawsuit entitled United States v. Dayton Industrial Drum, Inc., et al., Civil Action No. 3:16-cv-232-WHR.

In June 2016, the United States filed suit against Dayton Industrial Drum, Inc. and Sunoco, Inc. (“Sunoco”) under the Comprehensive Environmental Response, Compensation, and Liability Act for the recovery of response costs incurred at the Lammers Barrel Superfund Site in Beavercreek, Ohio (the “Site”). The Consent Decree resolves the liability of Sunoco and the alleged liability of its indemnitor, Carboline Company, at the Site for a total of $1,300,000.

The publication of this notice opens a period for public comment on the proposed Consent Decree. Comments should be addressed to the Assistant Attorney General, Environment and Natural Resources Division, and should refer to United States v. Dayton Industrial Drum, Inc., D.J. Ref. No. 90-11-3-07706/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $5.25 (25 cents per page reproduction cost) payable to the United States Treasury.

Randall M. Stone,
Acting Assistant Section Chief, Environmental Enforcement Section, Environment and Natural Resources Division.

[FR Doc. 2020-00730 Filed 1-16-20; 8:45 am]

BILLING CODE 4410-15-P